DEPARTMENT OF STATE

[Public Notice 10874]

60-Day Notice of Proposed Information Collection: Exchange Programs Alumni Website Registration

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to March 23, 2020.

ADDRESSES: You may submit comments by any of the following methods:

• Web: Persons with access to the internet may comment on this notice by going to www.Regulations.gov. You can search for the document by entering “Docket Number: DOS-2019-0030” in the Search field. Then click the “Comment Now” button and complete the comment form.

• Email: KellyPW@state.gov.

• Regular Mail: Bureau of Educational and Cultural Affairs; U.S. Department of State; SA-5, Room C2-C20; Washington, DC 20522-0503.

You must include the DS form number (if applicable), information collection title, and the OMB control number in any correspondence.

FOR FURTHER INFORMATION CONTACT: Direct requests for additional information regarding the collection listed in this notice, including requests for copies of the proposed collection instrument and supporting documents, to Patrick Kelly, who may be reached on 202-632-6186 or at KellyPW@state.gov.

SUPPLEMENTARY INFORMATION:

• Title of Information Collection: Exchange Programs Alumni Website Registration.

• OMB Control Number: 1405-0192.

• Type of Request: Revision of a Currently Approved Collection.

• Originating Office: Bureau of Educational and Cultural Affairs, ECA/P/A.

• Form Number: DS-7006.

• Respondents: Exchange program alumni and current participants of U.S. government-sponsored exchange programs.

• Estimated Number of Respondents: 4,000 for full form, and 21,000 for expedited form.

• Estimated Number of Responses: 25,000.

• Average Time per Response: 10 minutes for response to the full form or 2 minutes for response to the expedited form.

• Total Estimated Burden Time: 1,367 hours.

• Frequency: One time per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The International Exchange Alumni website (alumni.state.gov) requires information to process users' voluntary request for participation in the International Exchange Alumni network. Other than contact and exchange program information, which is required for website registration, all other information is provided on a voluntary basis. Participants also have the option of restricting access to their information.

Respondents to this registration form are U.S. government-sponsored exchange program participants and alumni. The Office of Alumni Affairs collects data from users not only to verify their status or participation in a program, but to help alumni network with one another and aid Embassy staff in their alumni outreach. Once a user account is activated, the same information may be used for contests, competitions, and other public diplomacy initiatives in support of Embassy and foreign policy goals.

Methodology

Information provided for registration is collected electronically via the Alumni website, alumni.state.gov.

Additional Information

International Exchange Alumni is a secure, encrypted website.

Aleisha Woodward,
Deputy Assistant Secretary for Policy.

[FR Doc. 2020-00971 Filed 1-21-20; 8:45 am]

BILLING CODE 4710-05-P